DEPARTMENT OF ENERGY

Federal Energy Regulatory Commission

Combined Notice of Filings #1

Take notice that the Commission received the following electric corporate filings:

Docket Numbers: EC19-96-000.

Applicants: Grady Wind Energy Center, LLC, Pattern Energy Group Inc.

Description: Application for Authorization Under Section 203 of the Federal Power Act, et al. of Grady Wind Energy Center, LLC, et al.

Filed Date: 5/31/19.

Accession Number: 20190531-5351.

Comments Due: 5 p.m. ET 6/21/19.

Take notice that the Commission received the following electric rate filings:

Docket Numbers: ER10-1437-010.

Applicants: Tampa Electric Company.

Description: Notice of Change in Status of Tampa Electric Company.

Filed Date: 5/31/19.

Accession Number: 20190531-5218.

Comments Due: 5 p.m. ET 6/21/19.

Docket Numbers: ER10-2794-029; ER12-1825-027; ER14-2672-014.

Applicants: EDF Trading North America, LLC, EDF Energy Services, LLC, EDF Industrial Power Services (CA), LLC.

Description: Notice of Non-Material Change in Status of the EDF Sellers.

Filed Date: 5/30/19.

Accession Number: 20190530-5526.

Comments Due: 5 p.m. ET 6/20/19.

Docket Numbers: ER17-1531-003.

Applicants: CPV Fairview, LLC.

Description: Supplement (Confidential Attachment A) to May 3, 2019 Supplement to January 17, 2019 Notice of Change in Status of CPV Fairview, LLC.

Filed Date: 5/30/19.

Accession Number: 20190530-5537.

Comments Due: 5 p.m. ET 6/20/19.

Docket Numbers: ER18-734-002.

Applicants: Frenchtown III Solar, LLC.

Description: Compliance filing: Frenchtown III Solar Compliance Filing to be effective 4/1/2018.

Filed Date: 5/30/19.

Accession Number: 20190530-5504.

Comments Due: 5 p.m. ET 6/20/19.

Docket Numbers: ER18-1226-002.

Applicants: PA Solar Park, LLC.

Description: Compliance filing: PA Solar Park Compliance Filing to be effective 6/1/2018.

Filed Date: 5/31/19.

Accession Number: 20190531-5094.

Comments Due: 5 p.m. ET 6/21/19.

Docket Numbers: ER19-467-002.

Applicants: New York Independent System Operator, Inc.

Description: Compliance filing: Compliance re: Electric storage facility participation in markets as ELRs to be effective 12/31/9998.

Filed Date: 5/31/19.

Accession Number: 20190531-5374.

Comments Due: 5 p.m. ET 6/21/19.

Docket Numbers: ER19-511-002.

Applicants: PJM Interconnection, L.L.C.

Description: Compliance filing: Compliance Filing Pursuant to May 3, 2019 Order re: Peak Shaving Adjustments to be effective 2/5/2019.

Filed Date: 5/30/19.

Accession Number: 20190530-5398.

Comments Due: 5 p.m. ET 6/20/19.

Docket Numbers: ER19-1180-000.

Applicants: First Choice Energy LLC.

Description: Report Filing: Refund Report Filing to be effective N/A.

Filed Date: 5/30/19.

Accession Number: 20190530-5406.

Comments Due: 5 p.m. ET 6/20/19.

Docket Numbers: ER19-2011-000.

Applicants: New Brunswick Energy Marketing Corporation.

Description: Request for Limited Waiver of New Brunswick Energy Marketing Corporation.

Filed Date: 5/30/19.

Accession Number: 20190530-5365.

Comments Due: 5 p.m. ET 6/13/19.

Docket Numbers: ER19-2015-000.

Applicants: Virginia Electric and Power Company, Monongahela Power Company, The Potomac Edison Company, PJM Interconnection, L.L.C.

Description: § 205(d) Rate Filing: Dominion, Potomac and Monongahela submit Interconnection Agreement SA No. 4874 to be effective 4/30/2019.

Filed Date: 5/30/19.

Accession Number: 20190530-5427.

Comments Due: 5 p.m. ET 6/20/19.

Docket Numbers: ER19-2016-000.

Applicants: AC Energy, LLC.

Description: Notice of Cancellation of Market-Based Rate Tariff of AC Energy, LLC.

Filed Date: 5/30/19.

Accession Number: 20190530-5521.

Comments Due: 5 p.m. ET 6/20/19.

Docket Numbers: ER19-2017-000.

Applicants: San Diego Gas & Electric Company.

Description: Informational Filing [Cycle 8] of Transmission Owner Rate Appendix X Formula rate mechanism of San Diego Gas & Electric Company.

Filed Date: 5/30/19.

Accession Number: 20190530-5522.

Comments Due: 5 p.m. ET 6/20/19.

Docket Numbers: ER19-2018-000.

Applicants: Wolverine Power Supply Cooperative, Inc.

Description: § 205(d) Rate Filing: Application to Modify Reactive Power Revenue Requirements for Rate Schedule 20 to be effective 6/1/2019.

Filed Date: 5/31/19.

Accession Number: 20190531-5196.

Comments Due: 5 p.m. ET 6/21/19.

Docket Numbers: ER19-2019-000.

Applicants: Tucson Electric Power Company.

Description: § 205(d) Rate Filing: Formula Transmission Rate to be effective 8/1/2019.

Filed Date: 5/31/19.

Accession Number: 20190531-5197.

Comments Due: 5 p.m. ET 6/21/19.

Docket Numbers: ER19-2020-000.

Applicants: Midcontinent Independent System Operator, Inc.

Description: § 205(d) Rate Filing: 2019-05-31_SA 3304 Lincoln Land Wind-Ameren GIA (J757) to be effective 5/16/2019.

Filed Date: 5/31/19.

Accession Number: 20190531-5205.

Comments Due: 5 p.m. ET 6/21/19.

Docket Numbers: ER19-2021-000.

Applicants: New England Power Pool Participants Committee.

Description: § 205(d) Rate Filing: Jun 2019 Membership Filing to be effective 5/1/2019.

Filed Date: 5/31/19.

Accession Number: 20190531-5209.

Comments Due: 5 p.m. ET 6/21/19.

Docket Numbers: ER19-2022-000.

Applicants: PacifiCorp.

Description: Tariff Cancellation: Termination of Exelon NITSA (OR D.A.) to be effective 7/31/2019.

Filed Date: 5/31/19.

Accession Number: 20190531-5213.

Comments Due: 5 p.m. ET 6/21/19.

Docket Numbers: ER19-2023-000.

Applicants: Tucson Electric Power Company.

Description: Application for Abandoned Plant Cost Recovery of Tucson Electric Power Company.

Filed Date: 5/31/19.

Accession Number: 20190531-5347.

Comments Due: 5 p.m. ET 6/21/19.

Docket Numbers: ER19-2024-000.

Applicants: Pacific Gas and Electric Company.

Description: § 205(d) Rate Filing: May 2019 Western Interconnection Agreement Biannual Filing to be effective 8/1/2019.

Filed Date: 5/31/19.

Accession Number: 20190531-5368.

Comments Due: 5 p.m. ET 6/21/19.

Take notice that the Commission received the following electric securities filings:

Docket Numbers: ES19-31-000.

Applicants: Duquesne Light Company.

Description: Duguesne Light Company submits Application for an Order Authorizing the Issuance of Short—Term Indebtedness.

Filed Date: 5/30/19.

Accession Number: 20190531-0001.

Comments Due: 5 p.m. ET 6/20/19.

Take notice that the Commission received the following electric reliability filings.

Docket Numbers: RD19-6-000.

Applicants: North American Electric Reliability Corporation, Western Electricity Coordinating Council.

Description: Joint Petition of North American Electric Reliability Corporation and Western Electricity Coordinating Council for Approval of Proposed Reliability Standard IRO-002-6.

Filed Date: 5/30/19.

Accession Number: 20190530-5525.

Comments Due: 5 p.m. ET 7/1/19.

Take notice that the Commission received the following electric reliability filings:

Docket Numbers: RR19-6-000.

Applicants: North American Electric Reliability Corporation.

Description: North American Electric Reliability Corporation's Report of Comparisons of Budgeted to Actual Costs for 2018 for NERC and the Regional Entities.

Filed Date: 5/30/19.

Accession Number: 20190530-5519.

Comments Due: 5 p.m. ET 6/20/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 31, 2019.
Nathaniel J. Davis, Sr.,
Deputy Secretary.

[FR Doc. 2019-11854 Filed 6-5-19; 8:45 am]

BILLING CODE 6717-01-P